DEPARTMENT OF HEALTH AND HUMAN SERVICES

Centers for Medicare & Medicaid Services

[Document Identifiers CMS-10065/10066, CMS-10611, CMS-10464, CMS-10430 and CMS-10492]

Agency Information Collection Activities: Proposed Collection; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by July 25, 2022.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs Division of Regulations Development Attention: Document Identifier/OMB Control Number: __, Room C4-26-05, 7500 Security Boulevard, Baltimore, Maryland 21244-1850.

To obtain copies of a supporting statement and any related forms for the proposed collection(s) summarized in this notice, you may make your request using one of following:

1. Access CMS' website address at website address at https://www.cms.gov/Regulations-and-Guidance/Legislation/PaperworkReductionActof1995/PRA-Listing.

FOR FURTHER INFORMATION CONTACT: William N. Parham at (410) 786-4669.

SUPPLEMENTARY INFORMATION:

Contents

This notice sets out a summary of the use and burden associated with the following information collections. More detailed information can be found in each collection's supporting statement and associated materials (see ADDRESSES).

CMS-10065/10066 Hospital Notices: IM/DND

CMS-10611 Medicare Outpatient Observation Notice (MOON)

CMS-10464 Agent/Broker Data Collection in Federally-Facilitated Health Insurance Exchanges

CMS-10430 Compliance with Individual and Group Market Reforms under Title XXVII of the Public Health Service Act

CMS-10492 Data Submission Requirements to Receive the Federally-facilitated Exchange User Fee Adjustment

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: Extension of a currently approved collection; Title of Information Collection: Hospital Notices: IM/DND; Use: The purpose of the IM is to inform beneficiaries and enrollees of their rights as hospital inpatients and how to request a discharge appeal by a Quality Improvement Organization (QIO) and how to file a request. For all Medicare beneficiaries, hospitals must deliver valid, written notice of a beneficiary's rights as a hospital inpatient, including discharge appeal rights. The hospital must use a standardized notice, as specified by CMS. This is satisfied by IM delivery.

Consistent with 42 CFR 405.1205 for Original Medicare and 422.620 for Medicare health plans, hospitals must provide the initial IM within 2 calendar days of admission. A follow-up copy of the signed IM is given no more than 2 calendar days before discharge. The follow-up copy is not required if the first IM is provided within 2 calendar days of discharge. In accordance with 42 CFR 405.1206 for Original Medicare and 422.622 for Medicare health plans, if a beneficiary/enrollee appeals the discharge decision, the beneficiary/enrollee and the QIO must receive a detailed explanation of the reason's services should end. This detailed explanation is provided to the beneficiary/enrollee using the DND, the second notice included in this renewal package. Form Number: CMS-10065/10066 (OMB control number: 0938-1019); Frequency: Yearly; Affected Public: Private Sector (Business or other for-profits, Not-for-Profit Institutions); Number of Respondents: 14,087,086; Total Annual Responses: 14,087,086; Total Annual Hours: 2,385,107. (For policy questions regarding this collection contact Janet Miller at Janet.Miller@cms.hhs.gov.)

2. Type of Information Collection Request: Extension without change of a currently approved collection; Title of Information Collection: Medicare Outpatient Observation Notice (MOON); Use: The Medicare Outpatient Observation Notice (MOON) serves as the written notice component of this mandatory notification process. The standardized content of the MOON includes all informational elements required by statute, in language understandable to beneficiaries, and fulfils the regulatory requirements at 42 CFR part 489.20(y).

The MOON is a standardized notice delivered to persons entitled to Medicare benefits under Title XVIII of the Act who receive more than 24 hours of observation services, informing them that their hospital stay is outpatient and not inpatient, and the implications of being an outpatient. This information collection applies to beneficiaries in Original Medicare and enrollees in Medicare health plans. Form Number: CMS-10611 (OMB control number: 0938-1308); Frequency: Yearly; Affected Public: State, Local, or Tribal Governments; Number of Respondents: 4,312; Total Annual Responses: 683,222; Total Annual Hours: 170,806. (For policy questions regarding this collection contact Janet Miller at Janet.Miller@cms.hhs.gov.)

3. Type of Information Collection Request: Extension of a currently approved information collection; Title of Information Collection: Agent/Broker Data Collection in Federally-Facilitated Health Insurance Exchanges; Use: The Patient Protection and Affordable Care Act, Public Law 111-148, enacted on March 23, 2010, and the Health Care and Education Reconciliation Act, Public Law 111-152, enacted on March 30, 2010 (collectively, “Affordable Care Act”), expands access to health insurance for individuals and employees of small businesses through the establishment of new Affordable Insurance Exchanges (Exchanges), also called Marketplaces, including the Small Business Health Options Program (SHOP).

The Centers for Medicare & Medicaid Services (CMS) recognizes the longstanding role that agents/brokers have played in connecting individuals and small businesses with health insurance products. Section 1312(e) of the Affordable Care Act and 45 CFR 155.220(a)(1) expands the role of agents/brokers by permitting them to enroll qualified individuals or small employers/employees in qualified health plans (QHPs) through the Exchanges, and assist individuals in applying for Advance Premium Tax Credits (APTCs) and Cost Sharing Reductions (CSRs). To participate as facilitators to enrollment, agents/brokers must register with the FFE, complete a training course covering eligibility and enrollment criteria for assisting in QHP enrollment, and sign agreements that formalize their understanding and commitment to adhere to the rules of the program. This requirement is specific to the FFE and does not automatically apply to State-based Exchanges (SBEs). This ICR serves as the formal request for renewal of the existing data collection. Form Number: CMS-10464 (OMB control number: 0938-1204); Frequency: Annually; Affected Public: Private Sector (Business or other for-profits) Number of Respondents: 64,000; Number of Responses: 64,000; Total Annual Hours: 15,360. (For questions regarding this collection contact Madeline Pellish at 301-492-4390).

4. Type of Information Collection Request: Extension of a currently approved collection; Title of Information Collection: Information Collection Requirements for Compliance with Individual and Group Market Reforms under Title XXVII of the Public Health Service Act; Use: Sections 2723 and 2761 of the Public Health Service Act (PHS Act) direct the Centers for Medicare and Medicaid Services (CMS) to enforce a provision (or provisions) of title XXVII of the PHS Act (including the implementing regulations in parts 144, 146, 147, and 148 of title 45 of the Code of Federal Regulations) with respect to health insurance issuers when a state has notified CMS that it has not enacted legislation to enforce or that it is not otherwise enforcing a provision (or provisions) of the group and individual market reforms with respect to health insurance issuers, or when CMS has determined that a state is not substantially enforcing one or more of those provisions. Section 2723 of the PHS Act directs CMS to enforce an applicable provision (or applicable provisions) of title XXVII of the PHS Act (including the implementing regulations in parts 146 and 147 of title 45 of the Code of Federal Regulations) with respect to group health plans that are non-Federal governmental plans. This collection of information includes requirements that are necessary for CMS to conduct compliance review activities. Form Number: CMS-10430 (OMB control number: 0938-0702); Frequency: Annually; Affected Public: Private Sector, State, Local, or Tribal Governments; Number of Respondents: 794; Total Annual Responses: 51,385; Total Annual Hours: 1,786. (For policy questions regarding this collection contact Usree Bandyopadhyay at 410-786-6650.)

5. Type of Information Collection Request: Extension of a currently approved collection; Title of Information Collection: Data Submission for the Federally-facilitated Exchange User Fee Adjustment; Use: Section 2713 of the Public Health Service Act requires coverage without cost sharing of certain preventive health services, including certain contraceptive services, in non-exempt, non-grandfathered group health plans and health insurance coverage. The final regulations establish rules under which the third party administrator of the plan would provide or arrange for a third party to provide separate contraceptive coverage to plan participants and beneficiaries without cost sharing, premium, fee, or other charge to plan participants or beneficiaries or to the eligible organization or its plan. Eligible organizations are required to self-certify that they are eligible for this accommodation and provide a copy of such self-certification to their third party administrators. The final rules also set forth processes and standards to fund the payments for the contraceptive services that are provided for participants and beneficiaries in self-insured plans of eligible organizations under the accommodation described previously, through an adjustment in the FFE user fee payable by an issuer participating in an FFE.

CMS will use the data collections from participating issuers and third party administrators to verify the total dollar amount for such payments for contraceptive services provided under this accommodation for the purpose of determining a participating issuer's user fee adjustment. The attestation that the payments for contraceptive services were made in compliance with 26 CFR 54.9815-2713A(b)(2) or 29 CFR 2590.715-2713A(b)(2) will help ensure that the user fee adjustment is being utilized to provide contraceptive services for the self-insured plans in accordance with the previously noted accommodation. Form Number: CMS-10492 (OMB control number: 0938-1285); Frequency: Annually; Affected Public: Private sector (Business or other for-profits and Not-for-profit institutions); Number of Respondents: 861; Total Annual Responses: 861; Total Annual Hours: 12,930. (For policy questions regarding this collection contact Jacqueline Wilson at jacqueline.wilson1@cms.hhs.gov.)

William N. Parham, III,
Director, Paperwork Reduction Staff, Office of Strategic Operations and Regulatory Affairs.

[FR Doc. 2022-11301 Filed 5-25-22; 8:45 am]

BILLING CODE 4120-01-P